LEGAL SERVICES CORPORATION

Sunshine Act Meeting

NOTICE: Cancellation.

DATE AND TIME: The Legal Services Corporation's Board of Directors and Finance Committee meetings scheduled for February 19, 2015 at 4:00 p.m., EDT, have been canceled. These meetings were noticed in the Friday, February 13, 2015 issue of the Federal Register, 80 FR 8110.

CONTACT PERSON FOR INFORMATION: Katherine Ward, Executive Assistant to the Vice President & General Counsel, at (202) 295-1500. Questions may be sent by electronic mail to FR_NOTICE_QUESTIONS@lsc.gov.

Dated: February 18, 2015.
Stefanie K. Davis,
Assistant General Counsel.

[FR Doc. 2015-03547 Filed 2-18-15; 11:15 am]

BILLING CODE 7050-01-P